MERIT SYSTEMS PROTECTION BOARD

5 CFR Part 1207

Enforcement of Nondiscrimination on the Basis of Handicap in Programs or Activities Conducted by the Merit Systems Protection Board

AGENCY: Merit Systems Protection Board

ACTION: Final rule.

SUMMARY: The Merit Systems Protection Board (MSPB or the Board) is amending its rules in this part to reflect the relocation of its Washington, DC, headquarters. On July 24, 2000, the Board relocated its headquarters offices from 1120 Vermont Avenue, NW, to 1615 M Street, NW. The amendment to this part advises interested persons that complaints under this part may be sent to the Board's Equal Employment Office at the new address.

EFFECTIVE DATE: August 10, 2000.

FOR FURTHER INFORMATION CONTACT: Robert E. Taylor, Clerk of the Board (202) 653-7200.

The Board is publishing this rule as a final rule pursuant to 5 U.S.C. 1204(h).

List of Subjects in 5 CFR Part 1207

Administrative practice and procedures, Civil rights.

Accordingly, the Board amends 5 CFR part 1207 as follows:

PART 1207—ENFORCEMENT OF NONDISCRIMINATION ON THE BASIS OF HANDICAP IN PROGRAMS OR ACTIVITIES CONDUCTED BY THE MERIT SYSTEMS PROTECTION BOARD

1. The authority citation for part 1207 continues to read as follows:

Authority: 29 U.S.C. 794.

§ 1207.170 [Amended]

2. Amend 5 CFR 1207.170 at paragraph (c) by removing “1120 Vermont Avenue, NW., Room 908,” and by adding in its place “1615 M Street, NW.”

Dated: August 4, 2000.
Robert E. Taylor,
Clerk of the Board.

[FR Doc. 00-20215 Filed 8-9-00; 8:45 am]

BILLING CODE 7400-01-M